DEPARTMENT OF COMMERCE

Evaluation of Coastal Zone Management Programs and National Estuarine Research Reserves

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Ohio Coastal Zone Management Program and the North Carolina National Estuarine Research Reserve (NERR).

The Coastal Zone Management Program evaluation will be conducted pursuant to section 312 of the Coastal Zone Management Act of 1972 (CZMA), as amended and regulations at 15 CFR part 923.

The NERR evaluation will be conducted pursuant to section 315 of the Coastal Zone Management Act of 1972 (CZMA), as amended and regulations at 15 CFR part 921, subpart E and part 923, subpart L.

The CZMA requires a continuing review of the performance of states with respect to coastal program and research reserve program implementation. Evaluation of Coastal Zone Management Programs and National Estuarine Research Reserves require findings concerning the extent to which a state has met the national objectives, adhered to its coastal program document or the Reserve's final management plan approved by the Secretary of Commerce, and adhered to the terms of financial assistance awards funded under the CZMA.

The evaluations will include a site visit, consideration of public comments, and consultations with interested Federal, State, and local agencies and members of the public. Public meetings are held as part of the site visits.

Notice is hereby given of the dates of the site visits for the listed evaluations, and the dates, local times, and locations of public meetings during the site visits.

The Ohio Coastal Zone Management Program evaluation site visit will be from June 26-30, 2000. The public meeting will be held on Wednesday, June 28, 2000, at 7:30 P.M., in the Visitor's Center at the Old Woman Creek National Estuarine Research Reserve, 2514 Cleveland Road, Huron, Ohio.

The North Carolina National Estuarine Research site visit will be from May 22-26, 2000. Public meetings will be held on Tuesday, May 23, 2000, at 7:00 P.M., in the Currituck County Satellite Office, Corolla, North Carolina; Wednesday, May 24, 2000, at 7:00 P.M., in the Marine Laboratory Auditorium, Duke University, Beaufort, North Carolina; and Thursday, May 25, 2000, at 7:00 P.M., at the Bryan Auditorium in Morton Hall, University of North Carolina at Wilmington, Wilmington, North Carolina.

Copies of the State's most recent performance reports, as well as OCRM's notifications and supplemental request letters to the States, are available upon request from OCRM. Written comments from interested parties regarding these Programs are encouraged and will be accepted until 15 days after the public meeting. Please direct written comments to Margo E. Jackson, Deputy Director, Ocean and Coastal Resource Management, NOS/NOAA, 1305 East-West Highway, 10th Floor, Silver Spring, Maryland, 20910. When the evaluation is completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland, 20910, (301) 713-3155, Extension 114.

(Federal Domestic Assistance Catalog 11.419, Coastal Zone Management Program Administration)

Dated: May 2, 2000.
John Oliver,
Chief Financial Officer, Chief Administrative Officer, National Ocean Service.

[FR Doc. 00-11346 Filed 5-05-00; 8:45 am]

BILLING CODE 3510-08-M